NUCLEAR REGULATORY COMMISSION

[NRC-2018-0236]

Memorandum of Understanding Between the U.S. Nuclear Regulatory Commission and the Wyoming Department of Environmental Quality

AGENCY: Nuclear Regulatory Commission.

ACTION: Memorandum of understanding; issuance.

SUMMARY: This notice is announcing that, effective on September 30, 2018, the U.S. Nuclear Regulatory Commission (NRC or Commission) and the State of Wyoming, Department of Environmental Quality (WYDEQ), entered into a Memorandum of Understanding (MOU) for the purpose of establishing a regulatory process for the completion of decommissioning of five uranium mill tailing sites and the termination of the associated uranium mill licenses located within the State of Wyoming.

DATES: The MOU was issued on September 30, 2018.

ADDRESSES: Please refer to Docket ID NRC-2018-0236 when contacting the NRC about the availability of information regarding this document. You may obtain publicly-available information related to this document using any of the following methods:

• Federal Rulemaking website: Go to http://www.regulations.gov and search for Docket ID NRC-2018-0236. Address questions about dockets in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Document collection at http://www.nrc.gov/reading-rm/adams.html. To begin the search, select “Begin Web-based ADAMS Search.” For problems with ADAMS, contact the NRC's PDR reference staff at 1-800-397-4209, 301-415-4737, or by email to pdr.resource@nrc.gov. The “Memorandum of Understanding between the U.S. Nuclear Regulatory Commission and the Wyoming Department of Environmental Quality to Establish a Process for the Completion of Decommissioning of Five Uranium Mill Tailing Sites and the Termination of the Associated Uranium Mill Licenses Located within the State of Wyoming,” is available electronically in ADAMS under Accession Number ML18165A254.

• NRC's Public Document Room (PDR): The public may examine and purchase copies of public documents at the NRC's PDR, Room O1 F21, One White Flint North, 11555 Rockville Pike, Rockville, Maryland 20852.

FOR FURTHER INFORMATION CONTACT: Stephen Poy, Office of Nuclear Material Safety and Safeguards, U.S. Nuclear Regulatory Commission, Washington, DC 20555-0001; telephone 301-415-7135; email: Stephen.Poy@nrc.gov.

SUPPLEMENTARY INFORMATION: Effective September 30, 2018, the NRC and the WYDEQ (collectively referred to as the Agencies) entered into a MOU for the purpose of establishing a regulatory process for the completion of decommissioning of five uranium mill tailing sites and the termination of the associated uranium mill licenses located within the State of Wyoming. This MOU pertains to the Agencies' roles in the decommissioning and eventual termination of the license for the following five uranium mill sites:

1. Anadarko Bear Creek located in Converse County, Wyoming (NRC License No. SUA-1310, Docket No. 040-08452)

2. Pathfinder Lucky Mc located in Fremont County, Wyoming (NRC License No. SUA-672, Docket No. 040-02259)

3. Western Nuclear Split Rock located approximately 2 miles from Jeffrey City, Wyoming (NRC License SUA-56, Docket No. 040-01162)

4. Umetco Minerals Corporation Gas Hills East located in Natrona, County Wyoming (NRC License No. SUA-648, Docket No. 040-00299)

5. ExxonMobil Highlands located approximately 25 miles north of Douglas, Wyoming (NRC License No. SUA-1139, Docket No. 040-08102)

The five licenses were transferred to the State of Wyoming on September 30, 2018, when the NRC discontinued, and the State of Wyoming assumed, regulatory authority over the management and disposal of byproduct material as defined in 11e.(2) of the Atomic Energy Act of 1954, as amended (the Act), and a subcategory of source material or ores involved in the extraction or concentration of uranium or thorium milling in the State in accordance with the agreement authorized by Section 274b. of the Act (83 FR 48905; September 28, 2018). The MOU documents completed NRC actions related to the decommissioning process for each of the sites and delineates specific actions, on a site-by-site basis, that the NRC and the State of Wyoming will take to verify completion of the decommissioning and license termination for these sites. The MOU stipulates that any decision made by the NRC for the five uranium mill sites prior to the discontinuation of the NRC's regulatory authority in Wyoming will be appropriately recognized by the NRC as meeting all applicable standards and requirements when reviewing the Completion Review Report. A Completion Review Report is required to be submitted by the State of Wyoming to the NRC, prior to license termination of a uranium mill site, for review and approval to adequately ensure public health and safety. Upon termination of each license, the site may be transferred, customarily, to the U.S. Department of Energy for long-term care and surveillance.

The NRC and WYDEQ will cooperate fully with each other to carry out this MOU and its intent of ensuring protection of public health, safety, and the environment in accordance with all governing laws and regulations.

Dated at Rockville, Maryland, this 15th day of November, 2018.
For the Nuclear Regulatory Commission.
Daniel S. Collins,
Director, Division of Materials Safety, Security, State, and Tribal Programs, Office of Nuclear Material Safety and Safeguards.

[FR Doc. 2018-25367 Filed 11-20-18; 8:45 am]

BILLING CODE 7590-01-P